DEPARTMENT OF TRANSPORTATION

Federal Highway Administration

Agency Information Collection Activities: Submission for OMB Review

AGENCY: Federal Highway Administration, DOT.

ACTION: Notice.

SUMMARY: The FHWA has forwarded the information collection request described in this notice to the Office of Management and Budget (OMB) for review and comment. We published a Federal Register Notice with a 60-day public comment period on this information collection on March 21, 2003 (68 FR 13979). No comments were received. We are required to publish this notice in the Federal Register by the Paperwork Reduction Act of 1995.

DATES: Please submit comments by June 2, 2004.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

FOR FURTHER INFORMATION CONTACT: Mr. Tim Penney, (202) 366-2698, Office of Planning, Federal Highway Administration, Department of Transportation, 400 Seventh Street, SW., Washington, DC 20590. Office hours are from 7:30 a.m. to 5 p.m., Monday through Friday, except Federal holidays.

SUPPLEMENTARY INFORMATION: Title: Information on Tribal Government Transportation Programs.

Abstract: FHWA proposes to fund a Synthesis project through the National Cooperative Highway Research Program. The project goal is to gather information on tribal governments' transportation programs. The information will include funding information, staffing, and administration of transportation projects and programs. Information will also be requested from tribal governments on cooperative projects with state and local governments. The information will be used to prepare a summary of how tribal transportation programs are funded and staffed, and how tribal governments administer programs with the Bureau of Indian Affairs, FHWA, and state and local governments. The information will be evaluated and best practices will be identified. The information will be shared with tribal governments and states for their use in developing and enhancing effective transportation programs for tribal governments.

Affected Public: 100 tribal government transportation staff.

Estimated Total Annual Burden Hours: The estimated average burden is 2 hours per respondent. The FHWA goal is to get information from 100 tribal governments at a minimum. The estimated total annual burden is 200 hours.

Authority: The Paperwork Reduction Act of 1995; 44 U.S.C. Chapter 35, as amended; and 49 CFR 1.48.

Issued on: April 20, 2004.
James R. Kabel,
Chief, Management Programs and Analysis Division.

[FR Doc. 04-9929 Filed 4-30-04; 8:45 am]

BILLING CODE 4910-22-P